DEPARTMENT OF COMMERCE

United States Patent and Trademark Office

[Docket No. 010321076-1076-01]

RIN 0651-AB26

Notification of Required and Optional Search Criteria for Computer Implemented Business Method Patent Applications in Class 705, and Request for Comments

AGENCY: United States Patent and Trademark Office, Commerce.

ACTION: Notice of request for public comments.

SUMMARY: The United States Patent and Trademark Office (USPTO) is providing notification to the public of required and optional search criteria used during examination of patent applications related to computer-implemented Business Methods in Class 705. The Office is seeking comments concerning databases, documenting practices, procedures, and developments, in addition to those listed in this notice, in specific industries within the computer-implemented business method field, to identify additional information and materials that could be considered during the examination process.

DATES: The recommended database will be reviewed quarterly. Database recommendations received before June 30, 2001, will be included in the first evaluation process which will commence on July 31, 2001. Results of the evaluation of the first group of database recommendations should be completed by September 30, 2001. The schedule through June of 2002 is set forth in the Supplementary Information section.

FOR FURTHER INFORMATION CONTACT: Gail Hayes by telephone at (703) 305-9711 or by fax at (703) 305-0040, or James Trammell by telephone at (703) 305-9768 or by fax at (703) 308-1396.

ADDRESSES: Comments should be sent by electronic mail message over the internet addressed to Robert.Clarke@USPTO.gov. Comments may also be submitted by mail addressed to: Box Comments—Patents, Commissioner for Patents, Washington, D.C. 20231, or by facsimile to (703) 872-9399 or (703) 308-6916, marked to the attention of Robert A. Clarke. Although comments may be submitted by mail or facsimile, the Office prefers to receive comments via the Internet. If comments are submitted by mail, the Office would prefer that comments be submitted on a DOS formatted 3½ inch disk accompanied by a paper copy.

The comments will be available for public inspection at the Office of Patent Legal Administration, Office of the Deputy Commissioner for Patent Examination Policy, located at Room 3-C23 of Crystal Plaza 4, 2201 South Clark Place, Arlington, Virginia, and will be available through anonymous file transfer protocol (ftp) via the Internet (address: http://www.uspto.gov). Since comments will be made available for public inspection, information that is not desired to be made public, such as an address or phone number, should not be included in the comments.

SUPPLEMENTARY INFORMATION:

1. Background

On March 29, 2000, the Director of the USPTO announced the USPTO Business Methods Patent Initiative: An Action Plan. One step in that action plan called for:

Industry Outreach

Industry Feedback: A greater effort will be made to obtain industry feedback on prior art resources used by the USPTO, solicit input on other databases and information collections and sources, and expand prior art collections.

2. Purpose

This announcement is a request for input on the USPTO search resources that are employed in the examination of business method patent applications in Class 705. By this process the USPTO hopes to achieve two significant results. First to inform the public of the prior art resources that are currently available to the Office. Second to identify additional information and materials that could be considered during the examination process.

The announcement is presented in two major sections; the listing of the current USPTO prior art resources and the process for providing comments on that listing. The listing of the current USPTO prior art resources includes a detailed description of the mandatory search that is now required for all patent applications examined in Class 705. In the important area of non-patent literature (NPL), the listing also sets forth a further identification of other prior art resources that are available to the patent examiners and may, in accordance with their professional judgment, be searched during the examination process. The section relating to the process for submitting comments to the USPTO details the primary type of information the Office is seeking, how the input may be submitted, and a general description of the process the Office will employ in considering the comments received. The USPTO will fully consider all comments and suggestions submitted in accordance with the guidelines set forth below.

Table of Contents

I. Current USPTO Prior Art Resources

A. U.S. Patents

1. Classified (Mandatory Search)

2. Text (Mandatory Search)

B. Foreign Patents (Mandatory Search)

C. Non-Patent Literature (NPL)

1. Core Databases (Mandatory Search)

2. Supplemental Resources

a. Commercial Database Services

b. Books, Technical Reports, and Conference Proceedings

c. Journals

d. Web-based Resources and Internet Usage Policy

e. Interlibrary Loan

II. Process for Providing Comments

A. Resource Recommendations

B. Criteria for Evaluation—Searchable Databases

C. Schedule to Evaluate Recommended Resources

I. Current USPTO Prior Art Resources for Examination of Business Method Patent Applications in Class 705

Examiners are required to search three main types of prior art when examining every class 705 application: U.S. patents, foreign patents, and NPL.

A. U.S. Patents

1. Classified (Mandatory Search)

The USPTO uses a classification schedule to sort and store all patents issued. The classification schedule is structured into class and subclass sections. For example, a patent on a computerized method of determining insurance claims is classified in class 705 “Data Processing: Financial, Business Practice, Management, or Cost/Price Determination”, and located in subclass 4, “Insurance.” Thus, the exact classification of this patent is 705/4.

A search of an application with claims directed to the business art includes a classified search in at least the subclass which the claimed subject matter of the application would be properly classified. This is referred to as an original classification (OR). A search of an application with multiple independent claims, some of which if presented separately would have been classified as an original classification in other areas, will be searched in each of the relevant classes and subclasses.

Examiners are not required to search areas in which it is reasonably determined that there is a low probability of finding the best reference(s). In outlining a field of search, the examiner notes every class and subclass under the U.S. Patent Classification that may have material pertinent to the subject matter as claimed. Every subclass, digest, and cross-reference art collection pertinent to each type of invention claimed is included, from the largest combination through the various subcombinations. The field of search extends to all probable areas relevant to the claimed subject matter and covers the disclosed features which might reasonably be expected to be claimed. The examiner consults with other examiners and/or supervisory patent examiners, especially with regard to applications covering subject matter unfamiliar to the examiner. The areas to be searched are prioritized so that the areas where relevant prior art is most likely to be found are searched first. (For more information, see the MPEP, http://www.uspto.gov/web/offices/pac/mpep/index.html)

Class 705 Schedule. The schedule for Class 705 is posted on the home page for the USPTO at http://www.uspto.gov/web/offices/ac/ido/oeip/taf/moc/705.htm.

2. Text (Mandatory Search)

Examiners are also required to perform a text search of U.S. patents. Examiners use Boolean and proximity operators to search keywords and multiple concept terms to retrieve U.S. patents relevant to the application. Concept terms are derived from many aspects of the invention including, but not limited to: Background of the invention; Objects of the invention; Technological and field of use environment; Prior effort/work; Problem to be solved; Major advantages/outcomes; How the problem is solved; How components relate; Functionality; and Environment—Field of Use.

B. Foreign Patents (Mandatory Search)

Examiners are also required to perform a text search in the Foreign Patent Databases indicated below. Concept and keywords terms are searched using Boolean and proximity operators with search strategies tailored to these databases. The name of each database listed below is followed by the name of the database producer.

Derwent World Patents Index [Derwent Information]

European Patents Fulltext [European Patent Office]

JAPIO—Patent Abstracts of Japan [Japan Patent Information Organization]

WIPO/PCT Patents Fulltext [MicroPatent LLC]

C. Non-Patent Literature (NPL)

The examination procedure for patent applications includes text searching of commercially available databases to identify relevant NPL. Examples of NPL include journal articles, newspaper articles, books, software manuals, conference proceedings, and standards.

Commercial database providers with extensive content coverage, powerful search interfaces, and the capability to simultaneously search multiple files provide the primary resources to effectively search large quantities of NPL. Examples of the search services used in the USPTO include DataStar, Dialog, Lexis/Nexis, Questel/Orbit, STN, and Westlaw. These services provide access to hundreds of databases from commercial producers. Through a single set of search operations, applied simultaneously to multiple database files of NPL selected according to the core and subclass specific criteria specified below, through a single commercial database provider, an examiner can retrieve search results simultaneously from across multiple NPL sources using a single search strategy commonly applicable to all accessed files. The USPTO also subscribes to other resources and databases to provide examiners with additional sources for supplemental searches. These resources are noted in the section of this notice regarding Supplemental Resources.

1. Mandatory

USPTO staff have in-depth expertise on commercial database services and their products. Based on this knowledge, databases with business-related literature were reviewed. Representative databases were chosen as mandatory resources to be searched for business cases. Several factors were considered during the review of these databases including coverage of business-related topics, date coverage (including older materials), and inclusion in commercial database services which allow for simultaneous searching of numerous databases. The databases selected are considered the “core” or “mandatory” NPL databases that must be searched for business method patent applications. This list is not intended to be exhaustive or comprehensive. However, by searching these databases, the examiner has searched a wide range of resources that can provide significant and relevant prior art for business method cases. Examiners are not restricted to searching the databases in this list. If, in the examiner's professional judgment, other prior art resources should be searched, they have hundreds of additional databases available (e.g. commercial database vendors mentioned above) to search.

The first section of the core database list, designated as “Non-Patent Literature Core Databases,” includes databases that are searched for every case classified in Class 705. Databases that may provide significant resources of NPL relevant to specific subclasses are designated as “Subject Specific Databases.”

For example, an application on a computerized method of determining insurance claims is classified in class 705 and subclass 4. All the core NPL databases in addition to the subject specific databases listed under subclass 4 are searched for NPL.

Business examiners are required to perform a text search in the NPL databases listed below. Concept and keywords terms are searched using Boolean and proximity operators with search strategies tailored to these databases.

The name of each database (except for newspapers) is followed by the name of the database producer.

CLASS 705 CORE DATABASES

NPL Core Databases. All Class 705 applications will be searched in the following databases:

ABI/INFORM® [Bell & Howell Information and Learning]

Business & Industry™ [Responsive Database Services, Inc.]

Business Week [The McGraw-Hill Companies Publications Online]

Business Wire [Business Wire]

Computer Database™ [The Gale Group]

Conference Papers Index [Cambridge Scientific Abstracts]

Dissertation Abstracts Online [Bell & Howell Information and Learning]

Globalbase™ [The Gale Group]

Inside Conferences [The British Library]

INSPEC [INSPEC, Inc.]

Internet & Personal Computing Abstracts® [Information Today, Inc.]

The McGraw-Hill Companies Publications Online [The McGraw-Hill Companies, Inc.]

Microcomputer Software Guide Online® [R. R. Bowker Company]

New Product Announcements/Plus® (NPA/Plus) [The Gale Group]

Newsletter Database™ [The Gale Group]

Newspapers

Financial Times Abstracts

New York Times Abstracts

San Jose Mercury News

Wall Street Journal Abstracts

PR Newswire [PR Newswire Association, Inc.]

PROMT® [The Gale Group]

Softbase: Reviews, Companies, and Products [Information Sources, Inc.]

Trade & Industry Database™ [The Gale Group]

Wilson Applied Science and Technology Abstracts [The H.W. Wilson Company]

World Reporter [The Dialog Corporation, Dow Jones & Company and Financial Times Information]

Subject Specific Databases. There are other databases which contain significant NPL resources relevant to specific Class 705 subclasses. Therefore, additional core databases are listed for the subclasses indicated in this section. Examiners are required to search these databases during the examination of cases classified under these subclasses. In this list, the subclass numbers are listed to the left of the subclass description.

2. Health Care Management

In addition to Core databases, examiners will search the following databases:

American Medical Association Journals [The American Medical Association]

BIOSIS Previews® [BIOSIS®]

EMBASE® [Elsevier Science, B.V.]

Health & Wellness Database℠ [The Gale Group]

Health News Daily [F-D-C Reports, Inc.]

HealthSTAR® [U.S. National Library of Medicine (NLM)]

MEDLINE® [U.S. National Library of Medicine (NLM)]

New England Journal of Medicine [Massachusetts Medical Society]

SciSearch® [Institute for Scientific Information” (ISI®)]

If drugs/pharmaceuticals are involved. * * *

Drug News & Perspectives [Prous Science Publishers]

International Pharmaceutical Abstracts [American Society of Health-System Pharmacists]

Pharmaceutical and Healthcare Industry News Database [PJB Publications Ltd.]

Pharmaceutical News Index (PNI®) [Bell & Howell Information and Learning]

4 Insurance

In addition to Core databases, examiners will search the following databases:

American Banker Financial Publications [American Banker-Bond Buyer]

Insurance Periodicals Index [NILS Publishing Company]

The Journal of Commerce [The Journal of Commerce, Inc.]

7 Operations Research

In addition to Core databases, examiners will search the following databases:

Inventory Monitoring Databases

13 Transportation Facility Access

In addition to Core databases, examiners will search the following databases:

Aerospace/Defense Markets & Technology® [The Gale Group]

Aerospace Database [AEROPLUS ACCESS]

The Journal of Commerce [The Journal of Commerce, Inc.]

NTIS—National Technical Information Service [National Technical Information Service, U.S. Department of Commerce]

Transportation Research Information Services [Transportation Research Board]

14 Advertising/Coupon Redemption/Incentives

In addition to Core databases, examiners will search the following databases:

Business Dateline® [Bell & Howell Information and Learning]

Marketing & Advertising Reference Service® [The Gale Group]

Newspapers:

The Atlanta Journal/The Atlanta Constitution

The Arizona Republic/The Phoenix Gazette (Phoenix)

The Sun (Baltimore)

The Boston Globe

Chicago Tribune

The Christian Science Monitor

Detroit Free Press

The Denver Post

Houston Chronicle

Independent (London)

The Irish Times

Los Angeles Times

The Miami Herald

Newsday and New York Newsday

The Oregonian (Portland)

The Plain Dealer (Cleveland)

The Philadelphia Inquirer

Rocky Mountain News (Denver)

San Francisco Chronicle

St. Louis Post-Dispatch

St. Petersburg Times

Times/Sunday Times (London)

USA Today

Washington Post Online

26 Electronic Shopping

In addition to Core databases, examiners will search the following databases:

Advertising/Coupon Redemption/Incentives Databases

Magazine DatabaseTM [The Gale Group]

28 Inventory Monitoring

In addition to Core databases, examiners will search the following databases:

EI Compendex® [Engineering Information, Inc.]

ISMEC: Mechanical Engineering Abstracts [Cambridge Scientific Abstracts]

JICST-EPlus—Japanese Science & Technology [Japan Information Center for Science and Technology (JICST)]

NTIS: National Technical Information Service [National Technical Information Service, U.S. Department of Commerce]

SciSearch® [Institute for Scientific Information (ISI®)]

Social SciSearch® [Institute for Scientific Information (ISI®)]

35 Banking/Finance/Investments

In addition to Core databases, examiners will search the following databases:

American Banker Financial Publications [American Banker-Bond Buyer]

Banking Information Source [Bell & Howell Information and Learning]

Bond Buyer Full Text [American Banker-Bond Buyer]

DIALOG Finance and Banking Newsletters [The Dialog Corporation]

EconLit [American Economic Association]

36 Portfolio Selection

In addition to Core databases, examiners will search the following databases:

Banking/Finance/Investment Databases

37 Trading, Matching or Bidding

In addition to Core databases, examiners will search the following databases:

Banking/Finance/Investment Databases

38 Credit Processing or Loan Processing

In addition to Core databases, examiners will search the following databases:

Banking/Finance/Investment Databases

39 Including Funds Transfer or Credit Transaction

In addition to Core databases, examiners will search the following databases:

Banking/Finance/Investment Databases

Knight-Ridder/Tribune Business News™ [Knight-Ridder/Tribune Business News]

Brief descriptions are provided for the above-listed NPL and Foreign Patent databases in Appendix I attached to this document.

3. Supplemental Resources

The USPTO has access to a multitude of resources and databases containing NPL. Many of these resources include significant amounts of business-related information. The following resources are available to patent examiners and may, in accordance with their professional judgment, be searched during the examination process.

a. Commercial Database Services. The USPTO provides access to commercial database vendors who provide over 1,000 searchable databases. In addition to the databases included in the core list mentioned earlier, examiners can choose to search other databases provided by these vendors when, in their professional judgment, searching additional databases is warranted.

DataStar—complete list of databases located at

http://ds.datastarweb.com/ds/products/datastar/ds.htm

Dialog—complete list of databases located at

http://library.dialog.com/bluesheets/html/blf.html

Lexis-Nexis—complete list of databases located at

http://www.lexis-nexis.com/lncc/literature/Directory/default.htm

(At the bottom of this web page, click on the link to view the alphabetical list of their entire directory.)

Questel-Orbit—complete list of databases located at

http://www.questel.orbit.com/en/userdoc/docindex.htm

(Click on “fact sheets”)

STN International—complete list of databases located at

http://www.cas.org/ONLINE/DBSS/dbsslist.html

Westlaw—the database directory is located at

http://directory.westlaw.com/

WIPO Journal of Patent Associated Literature (JOPAL)—the database directory is located at

http://jopal.wipo.int/

b. Books, Technical Reports, and Conference Proceedings. The USPTO maintains print collections of over 160,000 books, technical reports, journals, and conference proceedings that are not available electronically. Additionally, many materials are available in microformat.

c. Journals. The USPTO has access to over 5,000 full text journals. Many of these journals are available in electronic format. Please see the following section on “Web-based Resources,” which includes sources providing access to full text electronic journals. The USPTO also maintains full text CD-ROM products. Examples include Computer Select (1989 to date), Advances in Cryptography (1981-1997), and Dr. Dobb's Journals (1988-June 1997; newer Dr. Dobb's Journal issues are available via web-based resources). The remainder of the journal collection is in hard copy or microform formats.

d. Web-based Resources. Examiners have direct access to the web-based resources including technical books and reports, legal publications, indexes, encyclopedias, dictionaries, and databases of NPL, such as journal articles and conference proceedings. The primary strength of many of these electronic resources is that they provide quick access to full text publications, some of them with graphics. Some of these resources also allow for Boolean and proximity searching and can be searched by examiners to determine if additional relevant prior art is available.

The following web-based resources are available. Brief descriptions are provided for those most relevant to examiners in business methods areas.

Academic Press Dictionary of Science & Technology

Agricola

American Chemical Society

Association for Computing Machinery (ACM)—provides access to 95% of all ACM articles and proceedings from 1991 to the present.

ChemConnect

Corporate Resource Net B provides access to over 4,000 journals in electronic format.

Department of Energy Information Bridge

DTIC STINET

Encyclopedia Britannica

Faulkner—provides comprehensive coverage of the full spectrum of computer systems, software, networking, and telecom technologies, including trends, vendor strategies, and product solutions. Includes B2B E-Commerce Trends reports.

Institute for Electrical and Electronics Engineers (IEEE Xplore)—provides access to more than 500,000 IEEE/IEE articles written since 1988. All IEEE/IEE conferences, journals and standards from 1988 on are included.

ITKnowledge—provides full text access to more than 1,000 technical computing books.

Matthew Bender Legal and Intellectual Property Publications

Medline

Patent, Trademark & Copyright Journal

Physicians Desk Reference, PDR Herbal & Stedmans Medical Dictionary

Proceedings of the National Academy of Sciences

Proquest Direct—Proquest is organized into separate, subject-based libraries. USPTO subscribes to most of these including the Banking Library (containing 248 journal titles); the Computing library (containing 256 journal titles); the Telecommunications library (containing 92 journal titles). In all, USPTO has access to the full text and/or bibliographic records for over 5,000 journal titles through Proquest.

Readers' Guide to Periodical Literature

ScienceServer—provides access to nearly 200 scientific, technical and medical journals published by Elsevier and Academic Press.

Wiley Encyclopedia of Electrical and Electronics Engineering—covers core knowledge of all specialties encompassed by electrical and electronics engineering, including computer and software engineering.

Internet Usage Policy With Above Resources—When the Internet is used to search, browse, or retrieve information relating to a patent application, other than a reissue application or reexamination proceeding, USPTO examiners and searchers restrict search queries to the general state of the art unless the Office has established a secure link on the Internet with a specific vendor to maintain the confidentiality of the patent application. Non-secure Internet search, browse, or retrieval activities that could disclose proprietary information directed to a specific application, other than a reissue application or reexamination proceeding, are not permitted.

e. Interlibrary Loan. The USPTO maintains an interlibrary loan operation to gain access to full text documents that are not available electronically or on-site in hard copy or microform format. The interlibrary loan staff have access to local, national and international organizations and provide rapid retrieval of full text documents to examiners.

II. Process for Providing Comments

A. Resource Recommendations

The USPTO requests comments regarding the search resources employed in the examination of business method patent applications in Class 705. In order to identify additional information and materials that could be considered during the examination process, members of the public are invited to recommend databases and electronic resources that the USPTO does not currently access for searching business methods prior art.

Recommended databases must be publicly available. These databases will be evaluated based on the set of criteria published in this document. The information you provide will help us verify that the correct resource has been identified for evaluation. Please provide detailed information in support of suggested resource(s). Such information should address the following topics:

Reason for Recommendation

Please specify why you are recommending the database, focusing on the specific value of the content and search features of the particular database. For example, the database provides full text documents, or it contains business methods information not found in other databases.

Database Identification

(a) Provide the full name of the database and other names by which the database may be identified, e.g. acronyms or shortened names.

(b) Provide the name, address, and phone number for the database producer.

(c) Provide the name, address, and phone number for the entity that provides access to the database.

Database Content

(a) What are the years of coverage?

(b) What is the subject matter?

(c) Does the bibliographic information include documented publication dates?

(d) Does the database include abstracts and/or full text?

Accessibility

(a) Is the database publicly available?

(b) If so, what are the operational hours?

Technical Support

What is the availability of technical support?

Continuity

What is the database policy on maintaining backfile data?

Mode of Access

How is the database available?

(a) Online.

(b) Web-based.

(c) In-house CD-ROM or other electronic media.

(1) networked.

(2) stand-alone system.

B. Criteria for Evaluation—Searchable Databases

Recommended databases should provide substantial added value over resources already available. Databases will be evaluated in terms of whether or not they are of sufficient value to be included as mandatory search tools or whether they should be included as supplemental resources for examiners to search, at their discretion, during the patent application examination process.

Content

The intellectual content of the database will be evaluated on:

(a) Extent of the retrospective coverage of business-related prior art.

(b) Extent of unique, difficult-to-find sources and content not available in currently used tools.

(c) Extent of bibliographic documentation in addition to the availability of searchable abstracts and/or full text.

(d) The documentation of publication dates for the information included in the database.

(e) Thoroughness of indexing.

(f) Frequency of updates.

Search Interface

Databases should have a search interface that is powerful, user-friendly, and has multiple access points. For example: Does the database provide for single-search access to the entire resource content? Does it support Boolean and proximity searching? Does it allow for truncation and nesting of terms or synonyms?

Cost

The cost of the resource will be evaluated in relation to the value of the product and the cost of other comparable products.

Accessibility and Reliability

Database providers or producers should deliver reliable access 24 hours a day, seven days a week. The database must be publicly available.

Technical Support

Technical support must be knowledgeable and reliable, and must be available, at a minimum, Monday through Friday.

Continuity

Database content must be stable and consistent. In particular, continuing availability of backfile data is critical.

Mode of Access

The database should be accessible via TCP/IP (online), the Internet, or an in-house platform (networked or stand-alone). The mode of access must meet the requirements of the USPTO's Office of the Chief Information Officer's Technical Reference Model (TRM). The TRM is available at the following url:

http://www.uspto.gov/web/offices/ac/comp/proc/acquisitions/oamref.htm

C. Schedule to Evaluate Recommended Resources

Recommendations received by: | Will be evaluated by:
June 30, 2001 | September 30, 2001.
September 30, 2001 | December 31, 2001.
December 31, 2001 | March 31, 2002.
March 31, 2002 | June 30, 2002.

Classification Section

It has been determined that this notice is not significant for purposes of Executive Order 12866 (September 30, 1993).

Paperwork Reduction Act

This notice involves information collection requirements which are subject to review by the Office of Management and Budget (OMB) under the Paperwork Reduction Act of 1995 (44 U.S.C. 3501 et seq.). As required by the Paperwork Reduction Act of 1995 (44 U.S.C. 3507(d)), the Office has submitted an information collection package to OMB for its review and approval. The title, description, and respondent description for this information collection is shown below with an estimate of the annual reporting burdens. Included in the estimate is the time for reviewing instructions, searching existing data sources, gathering and maintaining the data needed and completing and reviewing the collection of information.

OMB Number: 0651-0047.

Title: United States Patent and Trademark Office Business Method Database Information.

Form Number: Not applicable.

Type of Review: Approved through March of 2004.

Affected Public: Individuals or households, business or other for-profit, not-for-profit institutions, farms, state, local or tribal governments, and the Federal Government.

Estimated Number of Respondents: 100.

Estimated Time Per Response: 1.5 hours.

Estimated Total Annual Burden Hours: 150 hours.

Needs and Uses: Input from industry and the public on the current search areas and suggestions from industry and the public on new sources of prior art is considered important to improve the examination process in the computer-implemented business method field. The public feedback will be used to evaluate suggested databases for inclusion in either mandatory or optional search areas in this field.

Comments are invited on: (1) Whether the collection of information is necessary for proper performance of the functions of the agency; (2) the accuracy of the agency's estimate of the burden; (3) ways to enhance the quality, utility, and clarity of the information to be collected; and (4) ways to minimize the burden of the collection of information to respondents.

Interested persons are requested to send comments regarding these information collections, including suggestions for reducing this burden, to Robert J. Spar, Director, Office of Patent Legal Administration, United States Patent and Trademark Office, Washington, D.C. 20231, or to the Office of Information and Regulatory Affairs of OMB, New Executive Office Building, 725 17th Street, N.W., Room 10235, Washington, D.C. 20503, Attention: Desk Officer for the Patent and Trademark Office.

Notwithstanding any other provision of law, no person is required to respond to nor shall a person be subject to a penalty for failure to comply with a collection of information subject to the requirements of the Paperwork Reduction Act unless that collection of information displays a currently valid OMB control number.

Authority: Sec. 4712, Pub. L. 106-113, 113 Stat. 1501A-572 (35 U.S.C. 2(b)(2)).

Dated: May 30, 2001.
Nicholas P. Godici,
Acting Under Secretary of Commerce for Intellectual Property and Acting Director of the United States Patent and Trademark Office.

Appendix I

Brief descriptions are provided for the above listed NPL and Foreign Patent databases. The following descriptions are excerpts obtained from the Dialog Corporation's Bluesheets.

ABI/INFORM®—includes details on virtually every aspect of business, including company histories, competitive intelligence, and new product development. ABI/INFORM contains bibliographic citations and 25-150 word summaries of articles appearing in professional publications, academic journals, and trade magazines published worldwide.

Aerospace/Defense Markets & Technology® (Gale Group Aerospace/Defense Markets & Technology®)—provides full-text articles and abstracts covering all aspects of the worldwide aerospace industry. Corporations in the aerospace/defense industry rely on A/DM&T: for coverage of key industry sources for details on competitors, products and technologies to monitor government funding, budgets, and contracts to identify market opportunities in the defense and aerospace industries.

Aerospace Database—provides references, abstracts, and controlled-vocabulary indexing of key scientific and technical documents, as well as books, reports, and conferences, covering aerospace research and development in over 40 countries including Japan and eastern European nations. This database supports basic and applied research in aeronautics, astronautics, and space sciences, as well as technology development and applications in complementary and supporting fields such as chemistry, geosciences, physics, communications, and electronics.

American Banker Financial Publications—corresponds to the full text of the authoritative daily financial services newspaper, American Banker, as well as the full text of many financial newsletters published by American Banker in the areas of capital markets, bank regulation, insurance letters, and public finance letters. This collection of publications follows trends, developments, and news in banking and related financial areas.

American Medical Association Journals—contains the full-text articles from 11 medical journals, including the well-known JAMA, The Journal of the American Medical Association. The articles include all subject areas relating to the practice of medicine. The American Medical Association is the world's largest single publisher of scientific and medical information. This database also contains peer-reviewed clinical and investigative articles in major medical disciplines. All original articles included are full-text; the database also includes letters to the editor, editorials, book reviews, corrections, medical news and perspectives, columns, special features, and occasional sections.

Banking Information Source—provides essential information about the financial services industry, banking trends, topics, issues, and operations. Its uniquely comprehensive coverage of important industry sources meets the banking-related information needs of researchers in banking, finance, government, tax, insurance, economics, financial services, and business schools. It contains the full text of cited articles from many high demand sources

BIOSIS Previews®—contains citations from Biological Abstracts® (BA), and Biological Abstracts/Reports, Reviews, and Meetings® (BA/RRM) (formerly BioResearch Index®), the major publications of BIOSIS®. Together, these publications constitute the major English-language service providing comprehensive worldwide coverage of research in the biological and biomedical sciences.

Bond Buyer Full Text—corresponds to the printed publication, The Bond Buyer. The newspapers specialize in the fixed-income investment market and are considered the authoritative sources of information for the municipal bond community in the U.S. Essential daily coverage of government and Treasury securities, financial futures, corporate bonds, and mortgage securities is provided. Extensive coverage of U.S. Congressional actions, worldwide monetary and fiscal policies, and regulatory changes relating to the bond industry is included. Bond Buyer Full Text also lists planned bond issues, bond calls and redemptions, and results of bond sales.

Business & Industry™—this database contains information with facts, figures, and key events dealing with public and private companies, industries, markets products for all manufacturing and service industries at an international level. B&I coverage concentrates on leading trade magazines and newsletters, the general business press, regional newspapers and international business journals.

Business Dateline™—provides the full text of major news and feature stories from 550 regional business publications from throughout the United States and Canada. The regional perspectives reported in the business press make Business Dateline an excellent source of in-depth business information with a local point of view. Virtually every aspect of regional business activities and trends is covered in the file, with particular emphasis on economic conditions in selected cities, states, or regions, as well as mergers, acquisitions, company executives, new products, and competitive intelligence.

Business Week—contains the complete text of articles from the domestic and international English-language editions of the highly acclaimed McGraw-Hill weekly business news magazine, Business Week. Articles focus on companies, the economy, government regulation, industries, labor and management issues, technology, and international markets.

Business Wire—contains the full text of news releases issued by approximately 10,000 corporations, universities, research institutes, hospitals, and other organizations. The file primarily covers U.S. industries and organizations, although some information on international events is included.

Computer Database™ (Gale Group Computer Database™)—provides comprehensive information about the computer, electronics, and telecommunications industries. Coverage includes detailed information about the evaluation, purchase, use, and support of computer and other electronic products. Gale Group Computer Database is designed to answer the questions of business and computer professionals about hardware, software, networks, peripherals, and services.

Conference Papers Index—provides access to records of the more than 100,000 scientific and technical papers presented at over 1,000 major regional, national, and international meetings each year. Conference Papers Index provides a centralized source of information on reports of current research and development from papers presented at conferences and meetings; it provides titles of the papers as well as the names and addresses (when available) of the authors of these papers. Also included in this database are announcements of any publications issued from the meetings, in addition to available preprints, reprints, abstract booklets, and proceedings volumes, including dates of availability, costs and ordering information. Primary subject areas covered include the life sciences, chemistry, physical sciences, geosciences, and engineering.

Derwent World Patent Index (DWPI)—provides access to information from more than 18 million patent documents, giving details of over 9 million inventions. Each week, approximately 20,000 documents from 40 patent-issuing authorities are added to DWPI. Patent-related items from Research Disclosure and International Technology Disclosures (ceased publication June 1994) are also included.

DIALOG Finance and Banking Newsletters—database is a collection of full-text newsletters from primary publishers in the field of investment, finance and banking. The database contains specialized industry newsletters that provide concise information on companies, products, markets, and technologies. It also contains rulings, regulations, and other legislative activities that affect the financial community.

Dissertation Abstracts Online—is a definitive subject, title, and author guide to virtually every American dissertation accepted at an accredited institution since 1861. Selected Masters theses have been included since 1962. In addition, since 1988, the database has included citations for dissertations from 50 British universities that have been collected by and filmed at The British Document Supply Centre. Beginning with DAIC Volume 49, Number 2 (Spring 1988), citations and abstracts from Section C, Worldwide Dissertations (formerly European Dissertations), have been included in the file. Abstracts are included for doctoral records from July 1980 (Dissertation Abstracts International, Volume 41, Number 1) to the present. Abstracts are included for masters theses from Spring 1988 (Masters Abstracts, Volume 26, Number 1) to the present.

Drug News & Perspectives (Prous Science Drug News & Perspectives)—this database allows users to quickly and easily consul the latest pharmaceutical news. The Prous Science Drug News & Perspectives database contains all articles and texts published from selected sections of the printed journal, Prous Science Drug News & Perspectives, plus unpublished records from the journal's sections: “Line Extensions,” “R&D Briefs,” and “People on the Move.” Unpublished records, omitted from the printed journal due to space limitations, are labeled “unpublished” and do not have volume, issue, or page numbers. Unpublished records may also include those in preparation for print. These records will have volume, issue and page numbers added in a later update to the database.

EconLit—provides indexing and abstracts of the worldwide literature on economics, currently covers more than 600 major economics journals annually. In addition, this file indexes about 600 collective volumes (essays, proceedings, etc.), 2,000 books, 900 dissertations, 2,000 working papers, and book reviews each year.

EI Compendex®—database is the machine-readable version of the Engineering Index (monthly/annual). It provides abstracted information from significant engineering and technological literature. The Compendex database provides worldwide coverage of approximately 4,500 journals and selected government reports and books. Subjects covered include: civil, energy, environmental, geological, and biological engineering; electrical, electronics, and control engineering; chemical, mining, metals, and fuel engineering; mechanical, automotive, nuclear, and aerospace engineering; and computers, robotics, and industrial robots.

EMBASE®—comprehensive index of the world's literature on human medicine and related disciplines.

European Patents Fulltext—covers all European patent applications and granted European patents published since the opening of the European Patent Office (EPO) in 1978. This database also contains bibliographic records for PCT (Patent Cooperation Treaty) applications transferred to the EPO.

Financial Times Abstracts—produced by the Business Information Services of the New York Times Electronic Media Company, contains concise, informative abstracts of articles from the U.S. Edition of the Financial Times newspaper. The Financial Times provides in-depth coverage on worldwide industries, companies, and markets.

Globalbase™ (Gale Group Globalbase™)—provides worldwide coverage of companies, products, and industries with a primary focus on Europe.

Health & Wellness Database℠ (Gale Group Health & Wellness Database℠)—is a comprehensive periodical and reference database produced by The Gale Group, providing broad coverage in the areas of health, medicine, fitness, and nutrition. Gale Group Health & Wellness Database is designed to address the needs of health and medical professionals, specialized business and industry researchers, consumers, and a wide range of people seeking a general understanding about important health issues and practices.

Health News Daily—contains all the daily news and text articles from the Health News Daily publication from F-D-C Reports. It provides specialized, in-depth business, scientific, regulatory and legal news. Each issue has features including news in the following columns: Product News, People, Litigation, Legislative News, Industry News, Research, Regulatory News, Financings, Reimbursement, and Public Health. A feature entitled “Washington This Week” lists scheduled congressional hearings, agency meetings, and industry conferences in the D.C. area. The “Calendar” presents notices of upcoming meetings, seminars, and conferences. The “Legislative Roundup” tracks recently introduced bills, committee activities, and congressional votes on health care issues.

HealthSTAR™—(Health Services Technology, Administration, and Research) is provided cooperatively by the U.S. National Library of Medicine and the American Hospital Association. This file incorporates all records from the former Health Abstracts, which are taken directly from the published articles, and are included for approximately 60% of the records.

Inside Conferences—contains details of all papers given at every congress, symposium, conference, exposition, workshop, and meeting received at the British Library Document Supply Centre (BLDSC) since October 1993.

INSPEC—(The Database for Physics, Electronics and Computing) corresponds to the three Science Abstracts print publications: Physics Abstracts, Electrical and Electronics Abstracts, and Computer and Control Abstracts. The Science Abstracts family of abstract journals began publication in 1898.

Insurance Periodicals Index—indexes and abstracts 35 of the most respected and widely read insurance industry journals and magazines, dating from January 1984 to the present.

International Pharmaceutical Abstracts—provides information on all phases of the development and use of drugs and on professional pharmaceutical practice. In early 1985 coverage was expanded to include pharmacy journals that deal with state regulations, salaries, guidelines, manpower studies and laws. The scope of the database includes the clinical, practical, and theoretical aspects of the literature as well as economic and scientific. A unique feature of these abstracts is the inclusion of the study design, number of patients, dosage, dosage forms, and dosage schedule.

Internet & Personal Computing Abstracts™ (replaced Microcomputer Abstracts®)—contains abstracts and citations to the literature on the use of computers in business, industry, education, libraries and the home. Over 90 traditional and cutting-edge publications are covered, including widely read mass-market computer publications, as well as those focusing on specific topics, such as hardware platforms, operating systems (Windows, DOS, UNIX, Macintosh, etc.), online systems, management, networks, and electronic publishing. Informative abstracts summarize software and hardware. Book reviews, feature articles, news, columns, program listings, product announcements, and buyer/vendor guides are included.

ISMEC: Mechanical Engineering Abstracts—(Information Service in Mechanical Engineering) indexes significant articles in all aspects of mechanical engineering, production engineering and engineering management from approximately 250 journals published throughout the world. In addition, books, reports, and conference proceedings are indexed. The primary emphasis is on comprehensive coverage of leading international journals and conferences on mechanical engineering subjects. The principal areas covered are mechanical, nuclear, electrical, electronic, civil, optical, medical, and industrial process engineering; mechanics; production processes; energy and power; transport and handling; and applications of mechanical engineering.

JAPIO—Patent Abstracts of Japan—provided by the Japan Patent Information Organization, represents the most comprehensive English-language access to Japanese unexamined patent applications (Kokai Tokkyo Koho) published since October 1976. All technologies are covered. Application records include both Japanese and non-Japanese priorities. Abstracts are provided only for applications originating in Japan, but are available for most records. Images of front page drawings, when available for a given patent, are also included.

JICST-EPlus—Japanese Science & Technology—this is a comprehensive bibliographic database covering literature published in Japan from all fields of science, technology, and medicine. The file contains both the JICST-E and the PreJICST-E files from Japan Science and Technology Corporation, Information Center for Science and Technology (JICST).

The Journal of Commerce—provides the complete text of all news, columns, editorials, briefs, calendar listings, and selected tables that appear in the Five-Star edition of the world's premier daily business newspaper covering international trade and transportation issues. It also includes the Six-Star news summary and West Coast/Trade page. Journal of Commerce features special individual sections which focus on ocean, barge, air, rail, and truck transportation, international banking and finance, foreign trade, energy, insurance, chemicals and plastics, electronic communications, and commodities. The online edition also includes a summary of every major story for each day.

Knight-Ridder/Tribune Business NewsTM—provides same-day, full-text business and related news from 28 Knight-Ridder publications, 4 Tribune Company newspapers, and more than 50 affiliated papers. Articles from contributing newspapers and magazines are available the morning of publication.

Magazine DatabaseTM (Gale Group Magazine Database™)—is a general interest database that contains indexes, abstracts, and full-text records. Gale Group Magazine Database provides current and retrospective news from more than 400 popular magazines on subjects including consumer behavior, media trends, popular culture, political opinion, leisure activities, and contemporary lifestyles. Gale Group Magazine Database also contains large collections of entertainment reviews and ratings of books, films, theater, concerts, hotels, and restaurants. This database is ideal for searchers who need background material and a variety of perspectives to supplement any business search. Gale Group Magazine Database includes indexes and abstracts for 400 publications and the full text for more than 250 magazines.

Marketing & Advertising Reference Service® (Gale Group Marketing & Advertising Reference Service®)—is a multi-industry advertising and marketing database with abstracts and full-text records on a wide variety of consumer products and services. Gale Group Marketing & Advertising Reference Service is widely used by consumer product and service companies to locate market size and market share information, monitor new product or service introductions, evaluate markets for existing products or services, and research the marketing and advertising strategies of competitors. Advertising agencies and public relations firms use Marketing & Advertising Reference Service to research and develop new client proposals; monitor ad campaigns, budgets, and target markets; locate information on products and services; and gain competitive intelligence on other agencies and public relations firms by tracking agency changes, new accounts, launch dates, contracts and appointments.

The McGraw-Hill Companies Publications Online—provides the complete text for many major McGraw-Hill publications. The database covers not only general business but also specific industries, i.e., aerospace, chemical processing, electronics, and construction. The complete text of each article is searchable and can be retrieved online in addition to being printed offline.

MEDLINE®—a major source of biomedical literature. MEDLINE corresponds to three print indexes: Index Medicus TM, Index to Dental Literature, and International Nursing Index. Additional materials not published in Index Medicus are included in the MEDLINE database in the areas of communication disorders, population and reproductive biology.

Microcomputer Software Guide Online®—database contains information on virtually every microcomputer software program and hardware system available or produced in the United States. The database contains bibliographic records for microcomputer software. Each record includes ordering information, technical specifications, subject classifications, and a brief description.

New England Journal of Medicine—contains full-text articles from The New England Journal of Medicine excluding meeting notices, “Books Received,” and advertising content. Founded in 1812, The New England Journal of Medicine (NEJM) is the oldest continuously published medical journal in the world. It maintains the largest voluntarily paid circulation of any peer-reviewed scientific journal, reaching physicians and other healthcare professionals in more than 120 countries.

New York Times Abstracts—contains concise, informative abstracts of articles in the final Late Edition of The New York Times newspaper, a newspaper that is respected around the world for its unparalleled coverage of international, national, business and New York regional news. The file provides abstracts of every article published in the newspaper, including the Magazine, Book Review, and all other Sunday sections.

Newsletter DatabaseTM (Gale Group Newsletter DatabaseTM)—contains the full text of specialized industry newsletters that provide concise information on companies, products, markets, and technologies; trade and geopolitical regions of the world; and government funding, rulings, and regulation and other legislative activities which impact the industries and regions covered. International in scope, the Newsletter Database provides searchers with important facts, figures, analysis, and current information affecting a broad range of industries and sectors. Information from newsletters contained in the Gale Group newsletter Database covers the following industries and geographic regions of the world: biotechnology, broadcasting and publishing, computers and electronics, chemicals, defense and aerospace, energy, environment, financial services, general technology, Japan, Middle East, manufacturing, medical and health, materials, packaging, research and development, telecommunications, transportation, and more.

Newspapers—includes the full text of all news stories, features, editorials, and wire stories. Items such as classified ads, sports, statistics, fillers, and certain minor items are excluded. (Description taken from PAPERS in the Dialog Worldwide Database Catalogue.)

New Product Announcements/Plus (NPA/PLUS) (Gale Group New Product Announcements/Plus)—contains the full text of press releases from all industries covering announcements related to products, with a focus on new products and services. In addition to product descriptions, press releases generally contain key details about new products and technologies, including technical specifications, availability, uses, licensing agreements, distribution channels, and prices. Company contacts and phone numbers are provided to allow follow-up by interested parties. The press releases contained in the NPA/PLUS database are obtained directly from the product manufacturer, distributor, or an authorized marketing representative.

NTIS—National Technical Information Service—database consists of summaries of U.S. government-sponsored research, development, and engineering, plus analyses prepared by Federal agencies, their contractors, or grantees. It is the means through which unclassified, publicly available, unlimited distribution reports are made available for sale from agencies such as NASA, DOD, DOE, HUD, DOT, Department of Commerce, and some 240 other agencies. Additionally, some state and local government agencies now contribute summaries of their reports to the database. NTIS also provides access to the results of government-sponsored research and development from countries outside the U.S. Organizations that currently contribute to the NTIS database include: the Japan Ministry of International Trade and Industry (MITI); laboratories administered by the United Kingdom Department of Industry; the German Federal Ministry of Research and Technology (BMFT); the French National Center for Scientific Research (CNRS); and many more.

Pharmaceutical and Healthcare Industry News Database—consists of two files; one file is the current material, updated daily, and contains the full text of all newsletter articles written in the last 25 to 30 days. The other file is an archival database, and contains the full text of indexed articles from the full range of PJB newsletters dating back to 1980. All publications follow a similar structure and contain sections on: Product & Research News, Company News, U.K. & International News, People, Meetings, and Conferences.

Pharmaceutical News Index (PNI®)—online source of current news about pharmaceuticals, cosmetics, medical devices, and related health fields. PNI cites and indexes all articles from the publications listed in the SOURCES section below on the following topics: drugs; corporation and industry sales, mergers and acquisitions; and government legislation, regulations, and court action. It covers requests for proposals; research grant applications; industry speeches; press releases; and other news items.

PR Newswire—contains the complete text of news releases prepared by U.S. companies, public relations agencies, trade associations, city, state, Federal and municipal government agencies, and other sources covering the entire spectrum of news.

PROMT® (Gale Group PROMT®)—is a multiple-industry database that provides broad, international coverage of companies, products, markets, and applied technologies for all industries. PROMT is comprised of abstracts and full-text records from the world's important trade and business journals, local newspapers, regional business publications, national and international business newspapers, industry newsletters, research studies, investment analysts' reports, corporate news releases, and corporate annual reports.

San Jose Mercury News—provides local, national, and international news coverage. Bureaus in Sacramento and Washington, DC, enable the newspaper to provide full coverage of state and Federal Government news. Particular emphasis is given to high technology and the developments in the industries of Silicon Valley, including coverage of the following companies: Hewlett-Packard, Apple Computer, Consolidated Freightways, Intel, Amdahl, Sun Microsystems, National Semiconductor, Tandem Computers, Seagate Technology, and Syntex. Bureaus in Tokyo, Mexico City, Los Angeles, and Seattle enable the San Jose Mercury News to focus on business and economic developments of the Pacific Rim. Other major areas of coverage include science, medicine, and real estate.

SciSearch®—is an international, multidisciplinary index to the literature of science, technology, biomedicine, and related disciplines produced by the Institute for Scientific Information” (ISI”). SciSearch contains all of the records published in the Science Citation Index® (SCI®), plus additional records from the Current Contents® publications.

Social SciSearch®—database is an international, multidisciplinary index to the literature of the social, behavioral, and related sciences, produced by the Institute for Scientific Information (ISI®). Social SciSearch contains all of the records published in the Social Sciences Citation Index.

Softbase: Reviews, Companies, and Products—is a suite of three discrete record types: review records, product records, and company records. The three linked and inter-related record types can be used separately or together, providing an important navigation tool for researchers in the intelligent information technology industry. Detailed descriptions of products in the product record file and of companies in the company record file can be linked to each other and to independent third-party reviews and analyses abstracted from more than 200 business, computer, technical, trade, and consumer publications.

Trade & Industry DatabaseTM (Gale Group Trade & Industry Database™)—is a multi-industry database covering international company, industry, product, and market information, with strong coverage of such areas as management techniques, financial earnings, economic climate, product evaluations, and executive changes. Industry subfiles allow users to narrow or broaden their searches to one or more groups of industry specific publications.

Transportation Research Information Services—is a composite file with records that are either abstracts of published articles and reports, or summaries of ongoing or recently completed research projects relevant to the planning, development, operation, and performance of transportation systems and their components. TRIS provides international coverage of ongoing research projects, published journal articles, state and Federal Government reports, conference proceedings, research and technical papers, and monographs.

Wall Street Journal Abstracts—contains abstracts of all articles published in the Eastern 3-star Edition of The Wall Street Journal newspaper. The Wall Street Journal is a daily newspaper valued worldwide for its coverage of business, finance, and economics.

Wilson Applied Science & Technology Abstracts—provides comprehensive abstracting and indexing of more than 400 core English-language scientific and technical publications. Non-English-language periodicals are indexed if English abstracts are provided. Periodical coverage includes trade and industrial publications, journals issued by professional and technical societies, and specialized subject periodicals, as well as special issues such as buyers' guides, directories, and conference proceedings. Wilson Applied Science & Technology Abstracts covers a wide range of interdisciplinary fields through a broad array of science and technology journals. Detailed abstracts of 50 to 150 words describe the content and scope of the source articles. Materials indexed include feature articles, interviews, obituaries, biographies, speeches, and product evaluations.

WIPO/PCT Patents Full-Text—covers the full text of PCT (Patent Cooperation Treaty) published applications issued under the auspices of the World Intellectual Property Organization (WIPO) since 1983. At present, 171 member states participate in the PCT system. A single PCT application can be designated as valid in any or all of the member states, so it is essentially equivalent to having filed with each designated national and regional patent office.

World Reporter—is a comprehensive, global news source, developed jointly by three of the world's leading information companies: The Dialog Corporation, Financial Times Information, and Dow Jones & Company. World Reporter covers the leading newspapers, business magazines, and newswires from all regions of the world, including emerging markets.

[FR Doc. 01-14092 Filed 6-4-01; 8:45 am]

BILLING CODE 3510-16-P